DEPARTMENT OF THE INTERIOR

National Park Service

National Register of Historic Places; Notification of Pending Nominations

Nominations for the following properties being considered for listing in the National Register were received by the National Park Service before January 5, 2002. Pursuant to section 60.13 of 36 CFR part 60 written comments concerning the significance of these properties under the National Register criteria for evaluation may be forwarded by United States Postal Service, to the National Register of Historic Places, National Park Service, 1849 C St. NW, NC400, Washington, DC 20240; by all other carriers, National Register of Historic Places, National Park Service, 800 N. Capitol St. NW., Suite 400, Washington, DC 20002; or by fax, 202-343-1836. Written or faxed comments should be submitted by February 13, 2002.

Carol D. Shull,
Keeper of the National Register Of Historic Places.

Arizona

Navajo County:

Winslow Commercial Historic District (Boundary Increase), 112 Kingsley Ave., Winslow, 02000012

Arkansas

Pulaski County:

Governor's Mansion Historic District (Boundary Increase), Roughly along Louisiana Ave., from W. 23rd St. and 24th St., Little Rock, 02000010

Fed. States

Kosrae Freely associated state:

Safonfok, Address Restricted, Walung, 02000004

Florida

Alachua County:

Winecoff House, 102 NE Seminary Ave., Micanopy, 02000001

Martin County:

Burn Brae Plantation—Krueger House, 1170 South East Ocean Blvd., Stuart, 02000002

Volusia County:

Chief Master at Arms House, (Florida's Historic World War II Military Resources MPS), 910 Biscayne Blvd., DeLand, 02000003

Idaho

Kootenai County:

Farragut Naval Training Station Brig, ID 54, Farragut State Park, 02000014

Washington County:

Edwards—Gillette Barn, 3059 Rush Creek Rd., Cambridge, 02000013

Missouri

Ozark County:

Hodgson-Aid Mill, MO 181, Sycamore, 02000015

New York

Clinton County:

Lyon Mountain Railroad Station, 2914 First St., Lyon Mountain, 02000005

Lewis County:

Lewis County Fairgrounds, Bostwick St., Lowville, 02000006

North Carolina

Rutherford County:

Main Street Historic District, Rpughly bounded by Blanton Alley, Huntley St., Yarboro St., and Broadway St., Forest City, 02000017

Wake County:

Apex Historic District (Boundary Increase), Grove and Thompson Sts., and parts of Hunter St., Apex, 02000016

Wilson County:

Thompson, Alfred and Martha Jane, House and Williams Barn, NC 1314, 0.4 mi. W of NC 58, New Hope, 02000007

South Dakota

Aurora County:

Lincoln House, 324 S. Main, Stickney, 02000023

Clark County:

Clark County: Courthouse, (County Courthouses of South Dakota MPS), 200 N. Commercial St., Clark, 02000026

Clay County:

Building at 125 Ohio St., 125 Ohio St., Wakonda, 02000021

Messler, Daniel A., Homestead, 30337 Greenfield Rd., Bersford, 02000022

Lawrence County:

McLaughlin Ranch Barn, 6025 E. Colorado Blvd., Spearfish, 02000025

Minnehaha County:

Dell Rapids Amphitheater, (Federal Relief Construction in South Dakota MPS), City Park, Dell Rapids, 02000020

St. Peter's Lutheran Church, 701 North Orleans, Dell Rapids, 02000018

Tolefsons Beef Stock Farm, 24450 458th Ave., Colton, 02000019

Sanborn County:

Woonsocket State Bank, 201 S. Dumont Ave., Woonsocket, 02000024

Tennessee

Shelby County:

Mt. Airy, 10700 Latting Rd., Cordova, 02000011

Texas

Dallas County:

Goodyear Tire and Rubber Company Building and B.F. Goodrich Building, 2809 Parry Ave. and 4136-40 Commerce St., Dallas, 02000009

Vermont

Chittenden County:

Sand Bar State Park, (Historic Park Landscapes in National and State Parks MPS), 1215 US 2, Milton, 02000028

Lamoille County:

Stowe CCC Side Camp, 6992 Mountain Rd., Stowe, 02000027

Orange County:

Thetford Hill State Park, (Historic Park Landscapes in National and State Parks MPS), 622 Academy Rd., Thetford, 02000029

Windham County:

Townshend State Park, (Historic Park Landscapes in National and State Parks MPS), 2755 State Forest Rd., Townshend, 02000030

Wisconsin

Bayfield County:

Forest Lodge, Garmisch Rd., Namakagon, 02000031

A Request for REMOVAL has been made for the following resource:

Mississippi

Jackson County:

Cochran-Cassanova House (Ocean Springs MRA), 9000 Robinson St., Ocean Springs, 87000595

[FR Doc. 02-2062 Filed 1-28-02; 8:45 am]

BILLING CODE 4310-70-P